ENVIRONMENTAL PROTECTION AGENCY

[EPA-HQ-OLEM-2018-0105, FRL-9087-01-OLEM]

Proposed Information Collection Request; Comment Request; Information Collection Request Submitted to OMB for Review and Approval; Implementation of the Oil Pollution Act Facility Response Plan Requirements (Renewal), EPA ICR No. 1630.13, OMB Control No. 2050-0135

AGENCY: Environmental Protection Agency (EPA).

ACTION: Notice.

SUMMARY: The Environmental Protection Agency (EPA) is planning to submit an information collection request (ICR), Oil Pollution Act Facility Response Plans (Renewal) (EPA ICR No. 1630.13, OMB Control No. 2050-0135) to the Office of Management and Budget (OMB) for review and approval in accordance with the Paperwork Reduction Act. Before doing so, EPA is soliciting public comments on specific aspects of the proposed information collection as described in Supplementary Information. This is a proposed extension of the ICR, which is currently approved through July 31, 2022. An agency may not conduct or sponsor and a person is not required to respond to a collection of information unless it displays a currently valid OMB control number.

DATES: Comments must be submitted on or before January 10, 2022.

ADDRESSES: Submit your comments, referencing Docket ID No. EPA-HQ-OLEM-2018-0105, to: (1) EPA online using www.regulations.gov (our preferred method) or by mail to: EPA Docket Center, Environmental Protection Agency, Mail Code 28221T, 1200 Pennsylvania Ave. NW, Washington, DC 20460, and (2) OMB via email to oira_submissions@omb.eop.gov. Address comments to OMB Desk Officer for EPA.

EPA's policy is that all comments received will be included in the public docket without change including any personal information provided, unless the comment includes profanity, threats, information claimed to be Proprietary Business Information (PBI) or other information whose disclosure is restricted by statute.

FOR FURTHER INFORMATION CONTACT: J. Troy Swackhammer, Office of Emergency Management, Mail Code 5104A, Environmental Protection Agency, 1200 Pennsylvania Ave. NW, Washington, DC 20460; telephone number: (202) 564-1966; email address: swackhammer.j-troy@epa.gov.

SUPPLEMENTARY INFORMATION: Supporting documents, which explain in detail the information that EPA will be collecting, are available in the public docket for this ICR. The docket can be viewed online at www.regulations.gov. Out of an abundance of caution for members of the public and our staff, the EPA Docket Center and Reading Room is closed to the public, with limited exceptions, to reduce the risk of transmitting COVID-19. Our Docket Center staff will continue to provide remote customer service via email, phone and webform. For further information about the EPA's public docket, Docket Center services and the current status, please visit us online at https://www.epa.gov/dockets. The telephone number for the Docket Center is 202-566-1744.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The authority for EPA's facility response plan (FRP) requirements is derived from section 311(j)(5) of the Clean Water Act, as amended by the Oil Pollution Act of 1990. EPA's regulation is codified at 40 CFR 112.20 and 112.21 and related appendices. The owner or operator of a facility subject to 40 CFR 112.20 must prepare and submit an FRP to EPA based on the following applicability criteria: (1) The facility transfers oil over water to or from a vessel and has a total storage capacity of greater than or equal to 42,000 gallons; or (2) the facility's total oil storage capacity is greater than or equal to one million gallons and one or more of the following harm factors are met: Insufficient secondary containment for aboveground storage tanks at the facility; a discharge of oil could cause injury to fish and wildlife and sensitive environments; a discharge of oil could shut down a drinking water intake; the facility has experienced a reportable oil discharge of 10,000 gallons or more in the last 5 years; or other factors considered by the Regional Administrator (see 40 CFR 112.20(a)(2), (b)(1), (f)(1) and (f)(2) for further information).

The purpose of an FRP is to help an owner or operator identify the necessary resources to respond to an oil discharge in a timely manner. If implemented effectively, the FRP will reduce the impact and severity of oil discharges and may prevent discharges because of the identification of risks at the facility. Although the owner or operator is the primary data user, EPA also uses the data in certain situations to ensure that facilities comply with the regulation and to help allocate response resources. State and local governments may use the data, which are not generally available elsewhere, and can greatly assist local emergency preparedness planning efforts. The EPA reviews all submitted FRPs and must approve FRPs for those facilities whose discharges may cause significant and substantial harm to the environment to ensure that facilities believed to pose the highest risk have planned for adequate resources and procedures to respond to oil discharges (See 40 CFR 112.20(f)(3) for further information about the criteria for significant and substantial harm.). No information collected under the FRP rule is expected to be confidential. One of the criteria necessary for information to be classified as “proprietary business information” (40 CFR 2.208) is that a business must show that it has previously taken reasonable measures to protect the confidentiality of the information and that it intends to continue to take such measures. EPA provides no assurances of confidentiality to facility owners or operators when they file their FRPs.

The burden estimates, numbers and types of respondents, wage rates and unit and total costs for this ICR renewal will be revised and updated, if needed, during the 60-day comment period while the ICR Supporting Statement is undergoing review at OMB.

Form Numbers: None.

Respondents/affected entities: Owners or operators of facilities required to have Spill Prevention, Control, and Countermeasure (SPCC) plans under the Oil Pollution Prevention regulation (40 CFR part 112) and that, because of their location, could reasonably be expected to cause substantial harm to the environment.

Respondent's obligation to respond: Mandatory under section 311(j)(5) of the Clean Water Act, as amended by the Oil Pollution Act of 1990.

Estimated number of respondents: 16,027 (total).

Frequency of response: Annual.

Total estimated burden: 385,784 hours (per year). Burden is defined at 5 CFR 1320.03(b).

Total estimated cost: $17,728,836 (per year), includes $3,355 annualized capital or operation and maintenance costs.

Changes in Estimates: Total estimated costs reflect U.S. Bureau of Labor Statistics labor rates as of May 2020. This estimate is based on EPA's current inventory of facilities that have submitted and are maintaining an FRP. Any change in burden or cost resulting from the 60-day OMB review period will be described and explained in this section when the updated ICR Supporting Statement is completed.

Dated: October 28, 2021.
Donna Salyer,
Director, Office of Emergency Management.

[FR Doc. 2021-24555 Filed 11-9-21; 8:45 am]

BILLING CODE 6560-50-P